FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 004264F.

Name: Trans Freight Services, Inc.

Address: 420 Doughty Blvd., 2nd Floor, Inwood, NY 11096.

Date Revoked: August 8, 2014.

Reason: Failed to maintain a valid bond.

License No.: 017342N.

Name: Trans Circle Inc.

Address: 1927 West 139th Street, Gardena, CA 90249.

Date Revoked: August 13, 2014.

Reason: Failed to maintain a valid bond.

License No.: 022610NF.

Name: Ascend Logistics, LLC.

Address: 75 Windsor Pond Road, West Windsor, NJ 08550.

Date Surrendered: August 6, 2014.

Reason: Voluntary surrender of license.

License No.: 023371N.

Name: PME Logistics Inc.

Address: 19401 S. Main Street, Suite 102, Gardena, CA 90248.

Date Revoked: August 10, 2014.

Reason: Failed to maintain a valid bond.

License No.: 024464N.

Name: Seahorse Forwarding Ltd.

Address: One Euclid Road, Fort Lee, NJ 07024.

Date Surrendered: August 11, 2014.

Reason: Voluntary surrender of license.

Sandra L. Kusumoto,
Director, Bureau of Certification and Licensing.

[FR Doc. 2014-20570 Filed 8-28-14; 8:45 am]

BILLING CODE 6730-01-P